DEPARTMENT OF TRANSPORTATION

Coast Guard

33 CFR Part 100

[CGD05-02-021]

Special Local Regulations for Marine Events; Norfolk Harbor, Elizabeth River, Norfolk and Portsmouth, Virginia

AGENCY: Coast Guard, DOT.

ACTION: Notice of implementation.

SUMMARY: The Coast Guard is implementing the special local regulations at 33 CFR 100.501 for the Portsmouth 250th Birthday Party Fireworks, to be held May 26, 2002, over the waters of the Elizabeth River between Norfolk and Portsmouth, Virginia. This action is necessary to provide for the safety of life on navigable waters during the event. The effect will be to restrict general navigation in the regulated area for the safety of spectators, participants and vessels transiting the event area.

EFFECTIVE DATES: 33 CFR 100.501 is effective from 6:30 p.m. to 9:30 p.m. EDT on May 26, 2002.

FOR FURTHER INFORMATION CONTACT: Chief Petty Officer Jerry Saffold, Marine Events Coordinator, Commander, Coast Guard Group Hampton Roads, 4000 Coast Guard Blvd., Portsmouth, VA 23703, at (757) 483-8521.

SUPPLEMENTARY INFORMATION: On Saturday, May 26, 2002, Ports Events, Inc. will sponsor the Portsmouth 250th Birthday Party Fireworks over the waters of the Elizabeth River, between Norfolk and Portsmouth, Virginia. The event will consist of a pyrotechnics display lasting approximately 45 minutes. A fleet of spectator vessels is expected to gather near the event site to view the fireworks. In order to ensure the safety of participants, spectators and transiting vessels, 33 CFR 100.501 will be in effect for the duration of the event. Under provisions of 33 CFR 100.501, vessels may not enter the regulated area without permission from the Coast Guard Patrol Commander. Spectator vessels may anchor outside the regulated area but may not block a navigable channel.

In addition to this notice, the maritime community will be provided extensive advance notification via the Local Notice to Mariners, marine information broadcasts, and area newspapers, so mariners can adjust their plans accordingly.

Dated: May 16, 2002.
James D. Hull,
Vice Admiral, U.S. Coast Guard, Commander, Fifth Coast Guard District.

[FR Doc. 02-13135 Filed 5-23-02; 8:45 am]

BILLING CODE 4910-15-P